DEPARTMENT OF THE TREASURY

Appointment of Members of the Legal Division to the Performance Review Board, Internal Revenue Service

Under the authority granted to me as Chief Counsel of the Internal Revenue Service by the General Counsel of the Department of the Treasury by General Counsel Directive 15, pursuant to the Civil Service Reform Act, I have appointed the following persons to the Legal Division Performance Review Board, Internal Revenue Service Panel:

1. Chairperson, Christopher Sterner, Deputy Chief Counsel (Operations).

2. Drita Tonuzi, Deputy Division Counsel (Large Business and International).

3. Frances F. Regan, Area Counsel (Small Business/Self Employed).

4. Mark S. Kaizen, Associate Chief Counsel (General Legal Services).

5. Steven A. Musher, Associate Chief Counsel (International).

This publication is required by 5 U.S.C. 4314(c)(4).

Dated: October 11, 2011.
William J. Wilkins,
Chief Counsel, Internal Revenue Service.

[FR Doc. 2011-27185 Filed 10-19-11; 8:45 am]

BILLING CODE 4830-01-P